DEPARTMENT OF ENERGY

Federal Energy Regulatory Commission

Erie Boulevard Hydropower, L.P.; Project No. 7387-019—New York, Piercefield Hydroelectric Project; Notice of Proposed Restricted Service List for a Programmatic Agreement for Managing Properties Included in or Eligible for Inclusion in the National Register of Historic Places

September 10, 2004.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR Section 385.2010.

The Commission staff is consulting with the New York State Historic Preservation Officer (New York SHPO) and the Advisory Council on Historic Preservation (Council) pursuant to the Council's regulations, 36 CFR Part 800, implementing section 106 of the National Historic Preservation Act, as amended, (16 U.S.C. Section 470 f), to prepare and execute a programmatic agreement for managing properties included in, or eligible for inclusion in, the National Register of Historic Places at Project No. 5334-019.

The Programmatic Agreement, when executed by the Commission, and the New York SHPO would satisfy the Commission's section 106 responsibilities for all individual undertakings carried out in accordance with the license until the license expires or is terminated (36 CFR 800.13[e]). The Commission's responsibilities pursuant to section 106 for the Piercefield Hydroelectric Project would be fulfilled through the Programmatic Agreement, which the Commission proposes to draft in consultation with certain parties listed below. The executed Programmatic Agreement would be incorporated into any Order issuing a license.

Erie Boulevard Hydropower, L.P., as Licensee for Project No. 7387, and the Saint Regis Mohawk Tribe are invited to participate in consultation to develop the Programmatic Agreement.

For purposes of commenting on the programmatic agreement, we propose to restrict the service list for the aforementioned projects as follows:

Dr. Laura Henley Dean Advisory Council on Historic Preservation The Old Post Office Building, Suite 803 1100 Pennsylvania Avenue, NW., Washington, DC 20004

Sheree Bonaparte Tribal Historic Preservation Officer Saint Regis Mohawk Tribe 412 State Route 37 Akwesasne, NY 13655

Ruth L. Pierpont, Director New York State Office of Parks, Recreation and Historic Preservation Historic Preservation Field Services Bureau Peebles Island P.O. Box 189 Waterford, NY 12188-0189

Mr. Jerry L. Sabattis, P.E., Licensing Coordinator Erie Boulevard Hydropower, L.P. 225 Greenfield Parkway Liverpool, NY, 13088

Mr. Samuel S. Hirschey, P.E., Manager, Licensing, Compliance, and Project Properties 225 Greenfield Parkway Liverpool, NY, 13088

Any person on the official service list for the above-captioned proceeding may request inclusion on the restricted service list, or may request that a restricted service list not be established, by filing a motion to that effect within 15 days of this notice date. In a request for inclusion, please identify the reason(s) why there is an interest to be included. If no such motions are filed, the restricted service list will be effective at the end of the 15 day period. Otherwise, a further notice will be issued ruling on any motion or motions filed within the 15 day period.

An original and 8 copies of any such motion must be filed with Magalie R. Salas, the Secretary of the Commission (888 First Street, NE., Washington, DC 20426) and must be served on each person whose name appears on the official service list. The first page of the motion should clearly show the project number, P-7387-019. Your response may be filed electronically via the Internet in lieu of paper. See 18 CFR 385.2001(a)(1)(iii) and the instructions on the Commission's Web site (http://www.ferc.gov) under the “e-Filing” link. The Commission strongly encourages electronic filings. Register online at http://www.ferc.gov/esubscribenow.htm to be notified via e-mail of new filings and issuances related to this or other pending projects. For assistance, contact FERC Online Support at FERCOnlineSupport@ferc.gov or toll-free at 1-866-208-3676, or for TTY, 202-502-8659.

Magalie R. Salas,
Secretary.

[FR Doc. E4-2210 Filed 9-15-04; 8:45 am]

BILLING CODE 6717-01-P